DEPARTMENT OF HOMELAND SECURITY

Federal Emergency Management Agency

[Docket ID FEMA-2009-0011]

Fee Schedule for Processing Requests for Map Changes, for Flood Insurance Study Backup Data, and for National Flood Insurance Program Map and Insurance Products

AGENCY: Federal Emergency Management Agency, DHS.

ACTION: Notice.

SUMMARY: This notice contains the revised fee schedules for processing certain types of requests for changes to National Flood Insurance Program (NFIP) maps, for processing requests for Flood Insurance Study (FIS) technical and administrative support data, and for processing requests for particular NFIP map and insurance products. The changes in the fee schedules will allow the Federal Emergency Management Agency (FEMA) to reduce further the expenses to the NFIP by recovering more fully the costs associated with processing conditional and final map change requests; retrieving, reproducing, and distributing technical and administrative support data related to FIS analyses and mapping; and producing, retrieving, and distributing particular NFIP map and insurance products.

DATES: The revised fee schedules are effective for all requests dated, or later.

The revised fee schedule for map changes is effective for all requests dated January 13, 2010, or later. The revised fee schedule supersedes the current fee schedule, which was established on October 1, 2007.

The revised fee schedule for requests for FIS backup data also is effective for all requests dated January 13, 2010, or later. The revised fee schedule supersedes the current fee schedule, which was established on October 1, 2007.

The revised fee schedule for requests for particular NFIP map and insurance products, which are available through the FEMA Map Service Center (MSC) is effective for all written requests, on-line Internet requests made through the MSC Web site, and all telephone requests received on or after January 13, 2010. The revised fee schedule supersedes the current fee schedule, which was established on October 1, 2007.

FOR FURTHER INFORMATION CONTACT: Kathy Miller, Branch Chief, Business Analysis Branch, Risk Analysis Division, DHS/FEMA, 1800 South Bell Street, Crystal City, VA 20598-3030; by telephone at (202) 646-3316 or by facsimile at (202) 646-2787 (not toll-free calls); or by e-mail at kathy.miller@dhs.gov.

SUPPLEMENTARY INFORMATION: This notice contains the revised fee schedules for processing certain types of requests for changes to National Flood Insurance Program (NFIP) maps, for processing requests for Flood Insurance Study (FIS) technical and administrative support data, and for processing requests for particular NFIP map and insurance products. The changes in the fee schedules will allow the Federal Emergency Management Agency (FEMA) to reduce further the expenses to the NFIP by recovering more fully the costs associated with processing conditional and final map change requests; retrieving, reproducing, and distributing technical and administrative support data related to FIS analyses and mapping; and producing, retrieving, and distributing particular NFIP map and insurance products.

Evaluations Performed. To develop the revised fee schedule for conditional and final map change requests, FEMA evaluated the actual costs of reviewing and processing requests for Conditional Letters of Map Amendment (CLOMAs), Conditional Letters of Map Revision Based on Fill (CLOMR-Fs), Conditional Letters of Map Revision (CLOMRs), Letters of Map Revision Based on Fill (LOMR-Fs), and Letters of Map Revision (LOMRs).

To develop the revised fee schedule requests for FIS technical and administrative support data, FEMA evaluated the actual costs of reviewing, reproducing, and distributing archived data in seven categories. These categories are discussed in more detail below.

To develop the revised fee schedule for requests for particular NFIP map and insurance products, FEMA: (1) Evaluated the actual costs incurred at the Map Service Center (MSC) for producing, retrieving, and distributing those products; (2) analyzed historical sales, cost data, and product unit cost for unusual trends or anomalies; and, (3) analyzed the effect of program changes, new products, technology investments, and other factors on future sales and product costs. The products covered by this notice are discussed in detail below.

Periodic Evaluations of Fees. A primary component of the fees is the prevailing private-sector rates charged to FEMA for labor and materials. Because these rates and the actual review and processing costs may vary from year to year, FEMA will evaluate the fees periodically and publish revised fee schedules, when needed, as notices in the Federal Register.

Fee Schedule for Requests for Conditional Letters of Map Amendment and Conditional and Final Letters of Map Revision Based on Fill

Based on a review of actual cost data for Fiscal Year 2007 and Fiscal Year 2008, FEMA maintained the following review and processing fees, which are to be submitted with all requests:

Request for single-lot/single-structure CLOMA and CLOMR-F: $500.

Request for single-lot/single-structure LOMR-F: $425.

Request for single-lot/single-structure LOMR-F based on as-built information (CLOMR-F previously issued by FEMA): $325.

Request for multiple-lot/multiple-structure in a single subdivision or within contiguous subdivisions CLOMA: $700.

Request for multiple-lot/multiple-structure in a single subdivision or within contiguous subdivisions CLOMR-F and LOMR-F: $800.

Request for multiple-lot/multiple-structure in a single subdivision or within contiguous subdivisions LOMR-F based on as-built information (CLOMR-F previously issued by FEMA): $700.

Fee Schedule for Requests for Conditional Map Revisions

Based on a review of actual cost data for Fiscal Year 2007 and Fiscal Year 2008, FEMA established the following review and processing fees, which are to be submitted with all requests that are not otherwise exempted under 44 CFR 72.5:

Request based on new hydrology, bridge, culvert, channel, or combination thereof: $4,400.

Request based on levee, berm, or other structural measure: $6,050.

Fee Schedule for Requests for Map Revisions

Based on a review of actual cost data for Fiscal Year 2007 and Fiscal Year 2008, FEMA established the following review and processing fees, which are to be submitted with all requests that are not otherwise exempted under 44 CFR 72.5. Requesters must submit the review and processing fees shown below with requests for LOMRs dated January 13, 2010, or later that are not based on structural measures on alluvial fans.

Request based on bridge, culvert, channel, hydrology, or combination thereof: $5,300.

Request based on levee, berm, or other structural measure: $7,150.

Request based on as-built information submitted as follow-up to CLOMR: $5,000.

Fees for Conditional and Final Map Revisions Based on Structural Measures on Alluvial Fans

Based on a review of actual cost data for Fiscal Year 2007 and Fiscal Year 2008, FEMA has maintained $5,600 as the initial fee for requests for CLOMRs and LOMRs based on structural measures on alluvial fans. FEMA will also continue to recover the remainder of the review and processing costs by invoicing the requester before issuing a determination letter, consistent with current practice. The prevailing private-sector labor rate charged to FEMA ($60 per hour) will continue to be used to calculate the total reimbursable fees.

Fee Schedule for Requests for Flood Insurance Study Backup Data

Non-exempt requestors of FIS technical and administrative support data must submit fees shown below with requests dated January 13, 2010, or later. These fees are based on the complete recovery costs to FEMA for retrieving, reproducing, and distributing the data, as well as maintaining the library archives, and for collecting and depositing fees. Based on a review of actual cost data for Fiscal Year 2007 and Fiscal Year 2008, FEMA maintained the following review and processing fees from the October 1, 2007, fee schedule, which are to be submitted with all requests.

All entities except the following will be charged for requests for FIS technical and administrative support data:

• Private architectural-engineering firms under contract to FEMA to perform or evaluate studies and restudies;

• Federal agencies involved in performing studies and restudies for FEMA (e.g., U.S. Army Corps of Engineers, U.S. Geological Survey, Natural Resources Conservation Service, and Tennessee Valley Authority);

• Communities that have supplied the Digital Line Graph base to FEMA and request the Digital Line Graph data (Category 6 below);

• Communities that request data during the statutory 90-day appeal period for an initial or revised FIS for that community;

• Mapped participating communities that request data at any time other than during the statutory 90-day appeal period, provided the data is requested for use by the community and not a third-party user; and

• State NFIP Coordinators, provided the data requested is for use by the State NFIP Coordinators and not a third-party user.

FEMA has established seven categories into which requests for FIS backup data is separated. These categories are:

(1) Category 1—Paper copies, microfiche, or diskettes of hydrologic and hydraulic backup data for current or historical FISs;

(2) Category 2—Paper or mylar copies of topographic mapping developed during FIS process;

(3) Category 3—Paper copies or microfiche of survey notes developed during FIS process;

(4) Category 4—Paper copies of individual Letters of Map Change (LOMCs);

(5) Category 5—Paper copies of Preliminary Flood Insurance Rate Map (FIRM) or Flood Boundary and Floodway Map (FBFM) panels;

(6) Category 6—Computer tapes or CD-ROMs of Digital Line Graph files, Digital Flood Insurance Rate Map files, or Digital LOMR attachment files; and

(7) Category 7—Computer diskettes and user's manuals for FEMA computer programs.

FEMA established the initial non-refundable fee of $150 non-exempt requesters of FIS technical and administrative support data pay to initiate their request under Categories 1, 2, and 3 above. This fee covers the preliminary costs of research and retrieval. If the data requested is available and the request is not cancelled, the final fee due is calculated as a sum of standard per-product charge plus a per-case surcharge of $93, designed to recover the cost of library maintenance and archiving. The total costs of processing requests in Categories 1, 2, and 3 will vary based on the complexity of the research involved in retrieving the data and the volume and medium of data to be reproduced and distributed. The initial fee will be applied against the total costs to process the request, and FEMA will invoice the requester for the balance plus the per-case surcharge before the data is provided. No data will be provided to a requester until all required fees have been paid.

No initial fee is required to initiate a request for data under Categories 4 through 7. Requesters will be notified by telephone about the availability of the data and the fees associated with the requested data.

As with requests for data under Categories 1, 2, and 3, no data will be provided to requesters until all required fees are paid. A flat user fee for each of these categories of requests, shown below, will continue to be required.

Request Under Category 4 (First Letter): $40.

Request Under Category 4 (Each additional letter): $10.

Request Under Category 5 (First panel): $35.

Request Under Category 5 (Each additional panel): $2.

Request Under Category 6 (per county/digital LOMR attachment shapefiles): $150.

Request Under Category 7 (per copy): $25.

Fee Schedule for Requests for Map and Insurance Products

The MSC distributes a variety of NFIP map and insurance products to a broad range of customers, including Federal, State, and local government officials; real estate professionals; insurance providers; appraisers; builders; land developers; design engineers; surveyors; lenders; homeowners; and other private citizens. The MSC distributes the following products:

• Digital copies of Conversion Letters, downloadable from the web;

• Digital copies of Flood maps, available on CD/DVD-ROM and downloadable from the web; which can be purchased by panel or in community, county, or State kits;

• Digital copies of FISs and FBFMs (where applicable), including the narrative report, tables, Flood Profiles, and other graphics, on CD/DVD-ROM and downloadable from the web;

• Digital FIRM (DFIRM) Database (DB), with and without orthographic photos, on CD/DVD-ROM and downloadable from the Web;

• Digital Q3 Flood Data files, which FEMA developed by scanning the published FIRM and vectorizing a thematic overlay of flood risks;

• Digital Q3 Flood Data files for Coastal Barrier Resource Areas (CBRA Q3 Flood Data files);

• Flood Map Status Information Service (FMSIS), through which FEMA provides status information for effective NFIP maps;

• Letter of Map Change (LOMC) Subscription Service, through which FEMA makes certain types of LOMCs available biweekly on CD-ROM;

• Paper (printed) and CD copies of NFIP Insurance Manual (Full Manual), which provides vital NFIP information for insurance agents nationwide;

• Paper (printed) copies of NFIP Insurance Manual (Producer's Edition), which is used for reference and training purposes;

• Community Map Action List (CMAL), which is a semimonthly list of communities and their NFIP status codes;

• FIRMette, a user-defined “cut-out” section of a flood map at 100 percent map scale designed for printing on a standard office printer;

• FIRMette—Desktop (formerly F-MIT Basic Version 1.0), which is a view tool for map images, on CD-ROM and downloadable from the web;

• MapViewer—Desktop (formerly DFIRM CD Viewer), which is a view tool for map images, on CD-ROM;

• FEMA's Guidelines and Specifications for Flood Hazard Mapping Partners on CD-ROM; and

• MHIP—Multi-year Hazard Implementation Plan on CD-ROM.

For more information on the map and insurance products available from the MSC, interested parties are invited to visit the MSC Web site at http://msc.fema.gov.

Based on a review of actual cost data and future trends, FEMA has revised the fee schedule for the map and insurance products that are available from the MSC. For digital copies of Flood Hazard Boundary Maps (FHBMs), FIRMs, DFIRMs DBs (with and without orthographic photos), FBFMs, and FISs on CD/DVD-ROM, FEMA has maintained the processing fee and shipping cost; for digital copies of conversion letters, FHBMs, FIRMs, DFIRM DBs (with and without orthographic photos), FBFMs, and FISs downloadable from the web, FEMA has maintained the processing fee; for FMSIS, LOMC Subscription Service, FEMA's Guidelines and Specifications for Flood Hazard Mapping Partners, MHIP, MapViewer—Desktop, FEMA has maintained the shipping cost; and for Q3 Flood Data Files and CBRA Flood Data Files, FEMA has increased the shipping cost. Federal, State, and local governments continue to be exempt from paying fees for the map products. The revised fee schedule for the current and new products is shown in the table below.

Product | Current fee | Shipping
Internet Products
FIRMettes | Free | N/A.
Letters | $2.50 per letter | N/A.
Downloadable Maps | $2.50 per panel | N/A.
Downloadable Floodways | $2.50 per panel | N/A.
Downloadable Studies | $5.00 per study | N/A.
DFIRM Database (DB) | $10.00 per DB | N/A.
CD-ROM
CD Maps | $4.00 per panel | $1.75 for first 2 CDs and $0.25 for each additional CD.
CD Floodways | $4.00 per panel | $1.75 for first 2 CDs and $0.25 for each additional CD.
CD Studies | $6.00 per study | $1.75 for first 2 CDs and $0.25 for each additional CD.
DFIRM DB | $10.00 per database | $1.75 for first 2 CDs and $0.25 for each additional CD.
DFIRM w/Orthos | $10.00 per database | $1.75 for first 2 CDs and $0.25 for each additional CD.
Q3 on CD | $50.00 per CD-Rom | $2.00 for first CD and $1.00 for each additional CD.
CBRA Q3 on CD | $50.00 per CD-Rom or $200 for all 5 Q3 CDs | $2.00 for first CD and $1.00 for each additional CD.
FMSIS (Individual Orders) | $13.00 per State or $38.00 for entire USA | $1.75 for first 2 CDs and $0.25 for each additional CD.
FMSIS (Annual Subscription) | $148.00 per State or $419.00 or entire USA | N/A.
LOMC Subscription Service (Individual Orders) | $85.00 per issue | $1.75 for first 2 CDs and $0.25 for each additional CD.
LOMC Subscription Service (Annual Subscriptions) | $2,000 per year | N/A.
FEMA's Guidelines and Specifications for Flood Hazard Mapping Partners on CD | $2.60 | $1.75 for first 2 CDs and $0.25 for each additional CD.
MHIP—Multi-Hazard Implementation Plan | $2.60 | $1.75 for first 2 CDs and $0.25 for each additional CD.
View Tool |  | N/A.
FIRMette—Desktop on Web | Free | N/A.
FIRMette—Desktop on CD | Free | N/A.
MapViewer—Desktop | $30.00 per Viewer | $1.75 for first 2 CDs and $0.25 for each additional CD.
Manuals
NFIP Insurance Manual (Full Manual) | $25.00 per subscription for two years | N/A.
NFIP Insurance Manual (Producer's Edition) | $15.00 per subscription for two years | N/A.
NFIP Insurance Manual (Full Manual) on CD | $25.00 per subscription for two years | N/A.
Other
Community Map Action List (CMAL) | Free | N/A.

Payment Submission Requirements

Fee payments for non-exempt requests must be made in advance of services being rendered. These payments shall be made in the form of a check, money order, or by credit card payment. Checks and money orders must be made payable, in U.S. funds, to the

National Flood Insurance Program

FEMA will deposit all fees collected to the National Flood Insurance Fund, which is the source of funding for providing these services.

Authority: 42 U.S.C. 4001 et seq.; Reorganization Plan No. 3 of 1978, 43 FR 41943, 3 CFR, 1978 Comp., p. 329; E.O. 12127, 44 FR 19367, 3 CFR, 1979 Comp., p. 376; 44 CFR 72.3.

Dated: December 3, 2009.
Deborah S. Ingram,
Acting Deputy Assistant Administrator, Federal Emergency Management Agency, Department of Homeland Security.

[FR Doc. E9-29640 Filed 12-11-09; 8:45 am]

BILLING CODE 9110-12-P